DEPARTMENT OF THE INTERIOR

National Park Service

AGENCY: National Park Service, Interior.

ACTION: Announcement of the National Park Subsistence Resource Commission (SRC) meetings.

SUMMARY: The National Park Service (NPS) announces the SRC meeting schedule for the following NPS areas within the Alaska Region: Aniakchak National Monument, Cape Krusenstern National Monument, Denali National Park, Kobuk Valley National Park, Lake Clark National Park and Wrangell-St. Elias National Park. The purpose of each meeting is to continue work authorized and proposed in subsistence hunting program recommendations and other related subsistence management issues. Each meeting is open to the public. Each SRC meeting will have time allocated for hearing public comments. The public is welcomed to present written or oral comments to the SRC. Draft meeting minutes will be available for public inspection approximately six weeks after each meeting.

The NPS SRC program is authorized under Title VIII, Section 808, of the Alaska National Interest Lands Conservation Act, Public Law 96-487, to operate in accordance with the provisions of the Federal Advisory Committee Act.

DATES: The meeting times and locations are:

1. Kobuk Valley National Park SRC, Monday, February 7, 2005, from 9:30 a.m. to approximately 5 p.m. at the U.S. Fish and Wildlife Service Conference Room in Kotzebue, AK. FOR FURTHER INFORMATION CONTACT: Kobuk Valley National Park, P.O. Box 1029, Kotzebue, AK 99752. Telephone: (907) 442-3890. Julie Hopkins, Superintendent, Email: julie_hopkins@nps.gov; Willie Goodwin, Subsistence Manager, Email: willie_goodwin@nps.gov; or Ken Adkisson, Subsistence Manager. Telephone: (907) 443-2522. Fax: (907) 443-6139. Email: ken_adkisson@nps.gov.

2. Cape Krusenstern National Monument SRC, Tuesday, February 8, 2005, from 9:30 a.m. to approximately 5 p.m. at the U.S. Fish and Wildlife Service Conference Room in Kotzebue, AK. FOR FURTHER INFORMATION CONTACT: Kobuk Valley National Park, P.O. Box 1029, Kotzebue, AK 99752. Telephone: (907) 442-3890. Julie Hopkins, Superintendent, Email: julie_hopkins@nps.gov; Willie Goodwin, Subsistence Manager, Email: willie_goodwin@nps.gov; or Ken Adkisson, Subsistence Manager. Telephone: (907) 443-2522. Fax: (907) 443-6139. Email: ken_adkisson@nps.gov.

3. Lake Clark National Park SRC, Wednesday, February 16, 2005, from 1 p.m. to approximately 5 p.m. at the Lake Clark National Park and Preserve Visitor's Center, Port Alsworth, AK. FOR FURTHER INFORMATION CONTACT: Lake Clark National Park and Preserve, Mary McBurney, Subsistence Manager, Alaska Regional Office, 240 West 5th Ave., Anchorage, AK 99501. Telephone: (907) 644-3598. Fax: (907) 644-3802. Email: mary_mcburney@nps.gov.

4. Wrangell-St. Elias National Park SRC, Wednesday, February 16 and Thursday, February 17, 2005, from 9:30 a.m. to 5 p.m. at the Chistochina Community Hall, Chistochina, AK (approximately Mile Post 33.7 on the Tok Cut-Off Road). FOR FURTHER INFORMATION CONTACT: Wrangell-St. Elias National Park and Preserve, Barbara Cellarius, Subsistence Manager/Cultural Anthropologist, P.O. Box 439, Copper Center, AK 99573. Telephone: (907) 822-7236 or (907) 822-5234. Fax: (907) 822-7259. Email: barbara_cellarius@nps.gov.

5. Denali National Park SRC, Friday, February 18, 2005, from 9 a.m. to approximately 5 p.m. at the Cantwell Community Hall in Cantwell, AK. FOR FURTHER INFORMATION CONTACT: Denali National Park and Preserve, Hollis Twitchell, Subsistence Manager, P.O. Box 9, Denali Park, AK 99755. Telephone: (907) 455-0673 or (907) 683-9544. Fax: (907) 455-0601 or (907) 683-9617. Email: hollis_twitchell@nps.gov.

6. Aniakchak National Monument SRC, Tuesday, February 22, 2005, from 1 p.m. to approximately 5 p.m. at the Chignik Lake Subsistence Office. FOR FURTHER INFORMATION CONTACT: Aniakchak National Monument and Preserve, Mary McBurney, Subsistence Manager, Alaska Regional Office, 240 West 5th Ave., Anchorage, AK 99501. Telephone: (907) 644-3598. Fax: (907) 644-3802. Email: mary_mcburney@nps.gov.

SUPPLEMENTARY INFORMATION: Locations and dates may need to be changed based on weather or local circumstances. Notice of each meeting will be published in local newspapers and announced on local radio stations prior to the meeting dates. The agendas for each meeting include the following:

1. Call to order (SRC Chair).

2. SRC roll call and confirmation of quorum.

3. SRC Chair and Superintendent's welcome and introductions.

4. Review and approve agenda.

5. Review and adopt minutes from last meeting.

6. Review Commission purpose and status of membership.

7. Commission member reports.

8. Superintendent and NPS staff reports.

9. Federal Subsistence Board: Review wildlife and fisheries proposals, reports and board actions.

10. 2004 SRC Chairs workshop update.

11. New business.

12. Agency and public comments.

13. SRC work session. Prepare correspondence and recommendations.

14. Set time and place of next SRC meeting.

15. Adjournment.

Marcia Blaszak,
Regional Director, Alaska Region.

[FR Doc. 05-985 Filed 1-18-05; 8:45 am]

BILLING CODE 4312-HE-P